DEPARTMENT OF COMMERCE

International Trade Administration

(A-583-816)

Notice of Final Results and Final Rescission in Part of Antidumping Duty Administrative Review: Certain Stainless Steel Butt-Weld Pipe Fittings From Taiwan

AGENCY: Import Administration, International Trade Administration, Department of Commerce.

SUMMARY: On July 13, 2006, the Department of Commerce (“the Department”) published in the Federal Register the preliminary results of the administrative review of the order on certain stainless steel butt-weld pipe fittings from Taiwan. See Certain Stainless Steel Butt-Weld Pipe Fittings From Taiwan: Preliminary Results of Antidumping Duty Administrative Review and Notice of Intent To Rescind in Part, 71 FR 39663 (July 13, 2006) (“Preliminary Results”). The merchandise covered by this order is certain stainless steel butt-weld pipe fittings from Taiwan as described in the “Scope of the Order” section of this notice. The period of review (“POR”) is June 1, 2004, through May 31, 2005. We gave interested parties an opportunity to comment on the preliminary results. Based upon our analysis of the comments received, we made one change to the margin calculation. The final weight-averaged dumping margin is listed below in the section titled “Final Results of Review.”

EFFECTIVE DATE: November 20, 2006.

FOR FURTHER INFORMATION CONTACT: Helen Kramer or Judy Lao, Office 7, AD/CVD Operations, Import Administration, International Trade Administration, U.S. Department of Commerce, 14th Street and Constitution Avenue, NW, Washington, DC 20230; telephone: (202) 482-0405 or (202) 482-7924, respectively.

SUPPLEMENTARY INFORMATION:

Background

The Department's preliminary results of review were published on July 13, 2006. See Preliminary Results. We invited parties to comment on the Preliminary Results. We received written comments on August 14, 2006, from Flowline Division of Markovitz Enterprise, Inc., Shaw Allow Piping Products, Inc., Gerlin, Inc., and Taylor Forge Stainless, Inc., (collectively, “petitioners”), and from Ta Chen Stainless Steel Pipe, Ltd. (“Ta Chen”). On August 21, 2006, we received rebuttal comments from petitioners and Ta Chen. The Department is conducting this administrative review in accordance with section 751 of the Tariff Act of 1930, as amended (“the Act”).

Scope of the Order

The products subject to this order are certain stainless steel butt-weld pipe fittings, whether finished or unfinished, under 14 inches inside diameter. Certain welded stainless steel butt-weld pipe fittings (“pipe fittings”) are used to connect pipe sections in piping systems where conditions require welded connections. The subject merchandise is used where one or more of the following conditions is a factor in designing the piping system: (1) Corrosion of the piping system will occur if material other than stainless steel is used; (2) contamination of the material in the system by the system itself must be prevented; (3) high temperatures are present; (4) extreme low temperatures are present; and (5) high pressures are contained within the system. Pipe fittings come in a variety of shapes, with the following five shapes the most basic: “elbows,” “tees,” “reducers,” “stub ends,” and “caps.” The edges of finished pipe fittings are beveled. Threaded, grooved, and bolted fittings are excluded from this review. The pipe fittings subject to this review are classifiable under subheading 7307.23.00 of the Harmonized Tariff Schedule of the United States (“HTSUS”). Although the HTSUS subheading is provided for convenience and customs purposes, our written description of the scope of this review is dispositive. Pipe fittings manufactured to American Society of Testing and Materials specification A774 are included in the scope of this order.

Partial Rescission of Review

In the Preliminary Results, the Department issued a notice of intent to rescind the review with respect to Liang Feng Stainless Steel Fitting Co., Ltd. (“Liang Feng”), Tru-Flow Industrial Co., Ltd. (“Tru-Flow”), Censor International Corporation (“Censor”) and PFP Taiwan Co., Ltd. (“PFP”), because we found that they had no entries of subject merchandise during the POR. See Preliminary Results at 39663. As the Department received no comments on this notice of intent to rescind we continue to find that rescission of the review concerning Liang Feng, Tru-Flow, Censor, and PFP is appropriate. Therefore, the Department is rescinding the review with respect to Liang Feng, Tru-Flow, Censor, and PFP.

Analysis of Comments Received

All issues raised in the case briefs, as well as the Department's findings, in this administrative review are addressed in the Issues and Decision Memorandum for the Administrative Review of Certain Stainless Steel Butt-Weld Pipe Fittings from Taiwan; Final Results of Antidumping Duty Administrative Review (“Decision Memorandum”), dated November 13, 2006, which is hereby adopted by this notice. A list of the issues raised and to which we have responded, all of which are in the Decision Memorandum, is appended to this notice. The Decision Memorandum is on file in the Central Records Unit in room B-099 of the main Commerce building, and can also be accessed directly on the Web at http://ia.ita.doc.gov. The paper copy and electronic version of the public version of the Decision Memorandum are identical in content.

Changes Since the Preliminary Results

Based on our analysis of the comments received, we have made a minor correction to include deductions reported in the field BILLADJU (U.S. billing adjustments) in the discount and rebates adjustment to U.S. price. This did not change the margin. See the Decision Memorandum at Comment 5 and Sales Analysis Memorandum for the Final Results of Administrative Review of Certain Stainless Steel Pipe Butt-weld Pipe Fittings from Taiwan: Ta Chen Stainless Steel Pipe Co., Ltd. and Ta Chen International (CA) Corp., (November 13, 2006).

Final Results of Review

As a result of our review, we determine that the following weighted-average margin exists for the period June 1, 2004, through May 31, 2005:

Company | Weighted- Average Margin (percent)
Ta Chen Stainless Pipe Co., Ltd | 0.79

Assessment Rates

The Department will determine, and U.S. Customs and Border Protection (“CBP”) shall assess, antidumping duties on all appropriate entries, pursuant to section 751(a)(1)(B) of the Act and 19 CFR 351.212(b). The Department calculated importer-specific duty assessment rates on the basis of the ratio of the total amount of antidumping duties calculated for the examined sales to the total entered value of the examined sales for that importer. Where the assessment rate is above de minimis, we will instruct CBP to assess duties on all entries of subject merchandise produced by Ta Chen. Antidumping duties for the rescinded companies, Liang Feng, Tru-Flow, Censor, and PFP, shall be assessed at rates equal to the cash deposit of estimated antidumping duties required at the time of entry, or withdrawal from warehouse, for consumption, in accordance with 19 CFR 351.212(c)(1)(I). The Department will issue appropriate assessment instructions directly to CBP within 15 days of publication of these final results of review.

The Department clarified its ``automatic assessment'' regulation on May 6, 2003 (68 FR 23954). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective upon publication of the final results of this administrative review for all shipments of stainless steel butt-weld pipe fittings from Taiwan entered, or withdrawn from warehouse, for consumption on or after the publication date of these final results, as provided by section 751(a) of the Act: (1) for the companies covered by this review, the cash deposit rate will be the rate listed above; (2) for merchandise exported by producers or exporters not covered in this review but covered in the less-than-fair-value investigation, the cash deposit rate will continue to be the company-specific rate from the most recent review; (3) if the exporter is not a firm covered in this review, a prior review, or less-than-fair-value the investigation, but the producer is, the cash deposit rate will be that established for the most recent period for the producer of the merchandise; and (4) the cash deposit rate for all other producers or exporters will be 51.01 percent, the “All Others” rate established in the less-than-fair-value investigation. These deposit requirements shall remain in effect until publication of the final results of the next administrative review.

Notification of Interested Parties

This notice also serves as a final reminder to importers of their responsibility under 19 CFR 351.402 (f) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (“APO”) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: November 13, 2006.
David M. Spooner,
Assistant Secretary for Import Administration.

Appendix - Issues in Decision Memorandum

Issues

1. Reliability of Ta Chen's Financial Statements

2. CEP Offset

3. CEP Profit Calculation

4. Calculation of Margin on Weight Basis

5. Alleged Calculation Errors

[FR Doc. E6-19611 Filed 11-17-06; 8:45 am]

BILLING CODE 3510-DS-S